DEPARTMENT OF JUSTICE

Notice of Lodging of Settlement Agreement in in re Philip Services Corporation Under the Comprehensive Environmental Response, Compensation and Liability Act (CERCLA)

Notice is hereby given that on May 28, 2004, a proposed Settlement Agreement was lodged with the United States Bankruptcy Court for the Southern District of Texas in In re Philip Services Corporation, et al., Case No. 03-37718-H2-11. The Settlement Agreement between the United States on behalf of the Environmental Protection Agency (“EPA”) and Debtor Philip Services Corporation and its affiliated Debtors resolves CERCLA claims against the Debtors for the following six hazardous waste sites: Consolidated Iron Site in Newburgh, NY; Breslube-Penn Site in Corapolis, PA; Spectron Site in Elkton, MD; Modena Yard Site in Chester County, PA; Malone Services Site in Texas City, TX; and Casmalia Site in Santa Barbara, CA. Under the Settlement Agreement, EPA will have an allowed bankruptcy claim in the total amount of $16,738,601.

The Department of Justice will receive comments relating to the Settlement Agreement for a period of thirty (30) days from the date of this publication. Comments should be addressed to the Assistant Attorney General, Environment and Natural Resources Division, P.O. Box 7611, U.S. Department of Justice, Washington, DC 20044-7611, and should refer to In re Philip Services Corporation, et al., DJ Ref. No. 90-11-3-06852/1.

The Settlement Agreement may be examined at the Office of the United States Attorney for the Southern District of Texas, 910 Travis, Suite 1500, Houston, Texas by request to Assistant U.S. Attorney Judy A. Robbins, and at the United States Environmental Protection Agency, 401 M Street, SW., Washington, DC. 20460. During the public comment period, the Settlement Agreement may also be examined on the following Department of Justice Web site, http://www.usdoj.gov/enrd/open.html. A copy of the Settlement Agreement may also be obtained by mail from the Consent Decree Library, P.O. Box 7611, U.S. Department of Justice Washington, DC 20044-7611 or by faxing or e-mailing a request to Tonia Fleetwood (tonia.fleetwood@usdoj.gov), fax no. (202) 514-0097, phone confirmation number (202) 514-1547. In requesting a copy from the Consent Decree Library, please enclose a check in the amount of $3.50 (25 cents per page reproduction cost) payable to the U.S. Treasury.

Bruce S. Gelber,
Section Chief, Environmental Enforcement Section, Environment and Natural Resources Division.

[FR Doc. 04-13045 Filed 6-8-04; 8:45 am]

BILLING CODE 4410-15-M